Title 3—

The President

Executive Order 13341 of May 20, 2004

Further Amendment to Executive Order 11023, Providing for the Performance by the Secretary of Commerce of Certain Functions Relating to the National Oceanic and Atmospheric Administration

By the authority vested in me as President by the Constitution and the laws of the United States of America, including section 301 of title 3, United States Code, it is hereby ordered as follows:

Section 1. As a result of the enactment of the National Oceanic and Atmospheric Administration Commissioned Officer Corps Act of 2002 (Public Law 107-372), the following conforming amendments are made to Executive Order 11023 of May 28, 1962, as amended:

(a) In section 1(a), delete “section 6(b) of the Coast and Geodetic Survey Commissioned Officers Act of 1948 (62 Stat. 298; 33 U.S.C. 853e(b))” and insert in lieu thereof: “section 223(b) of the National Oceanic and Atmospheric Administration Commissioned Officer Corps Act of 2002 (Public Law 107-372; 33 U.S.C. 3023(b))”.

(b) In section 1(b), delete “section 12(a) of the Coast and Geodetic Survey Commissioned Officers Act of 1948, as amended (75 Stat. 506; 33 U.S.C. 853j-1(a))” and insert in lieu thereof: “section 229(a) of the National Oceanic and Atmospheric Administration Commissioned Officer Corps Act of 2002 (Public Law 107-372; 33 U.S.C. 3029(a))”.

(c) In section 1(c), delete “section 12(b) of the Coast and Geodetic Survey Commissioned Officers Act of 1948, as amended (75 Stat. 506; 33 U.S.C. 853j-1(b))” and insert in lieu thereof: “section 229(b) of the National Oceanic and Atmospheric Administration Commissioned Officer Corps Act of 2002 (Public Law 107-372; 33 U.S.C. 3029(b))”.

(d) In section 1(d), delete “section 12(c) of the Coast and Geodetic Survey Commissioned Officers Act of 1948, as amended (75 Stat. 506; 33 U.S.C. 853j-1(c))” and insert in lieu thereof: “section 229(c) of the National Oceanic and Atmospheric Administration Commissioned Officer Corps Act of 2002 (Public Law 107-372; 33 U.S.C. 3029(c))”.

(e) Section 1(e) shall be revised to read as follows: “The authority vested in the President by section 243(b) of the National Oceanic and Atmospheric Administration Commissioned Officer Corps Act of 2002 (Public Law 107-372; 33 U.S.C. 3043(b)), to defer the retirement of an officer of the National Oceanic and Atmospheric Administration serving in a rank above that of captain who has attained 62 years of age, but such a deferment may not extend beyond the first day of the month in which the officer becomes 64 years of age.”

(f) Section 1(f) shall be revised to read as follows: “The authority vested in the President by section 244 of the National Oceanic and Atmospheric Administration Commissioned Officer Corps Act of 2002 (Public Law 107-372; 33 U.S.C. 3044), to retire from the active service any commissioned officer of the National Oceanic and Atmospheric Administration, upon his own application, who has completed 20 years of active service, of which at least 10 years was service as a commissioned officer.”

(g) In section 1(g), delete “section 23(a) of the Coast and Geodetic Survey Commissioned Officers Act of 1948, as amended (75 Stat. 506; 33 U.S.C. 853t(a))” and insert in lieu thereof: “section 221(a)(4) of the National Oceanic and Atmospheric Administration Commissioned Officer Corps Act of 2002 (Public Law 107-372; 33 U.S.C. 3021(a)(4))”.

(h) In section 1(h), delete “section 1(1) of the Act of December 3, 1942 (56 Stat. 1038; 33 U.S.C. 854a-1(1))” and insert in lieu thereof: “section 230(b)(1) of the National Oceanic and Atmospheric Administration Commissioned Officer Corps Act of 2002 (Public Law 107-372; 33 U.S.C. 3030(b)(1))”.

(i) In section 1(i), delete “section 1(2) of the Act of December 3, 1942 (56 Stat. 1038; 33 U.S.C. 854a-1(2))” and insert in lieu thereof: “section 230(b)(2) of the National Oceanic and Atmospheric Administration Commissioned Officer Corps Act of 2002 (Public Law 107-372; 33 U.S.C. 3030(b)(2))”.

(j) Section 1(j) shall be revised to read as follows: “The authority contained in section 230(b)(3) of the National Oceanic and Atmospheric Administration Commissioned Officer Corps Act of 2002 (Public Law 107-372; 33 U.S.C. 3030(b)(3)), to appoint temporarily in all grades to which original appointments in the National Oceanic and Atmospheric Administration are authorized to fill vacancies caused by transfer of officers to the military departments.”

(k) In section 1(k), delete “section 16 of the Act of May 22, 1917 (40 Stat. 87; 33 U.S.C. 855)” and insert in lieu thereof: “section 251 of the National Oceanic and Atmospheric Administration Commissioned Officer Corps Act of 2002 (Public Law 107-372; 33 U.S.C. 3061)”, and delete the word “personnel” in the two places in which it appears and insert in lieu thereof: “officers”.

Sec. 2. Section 1(m) is added to Executive Order 11023 to read as follows: “(m) The authority vested in the President by Public Law 96-215, as amended (10 U.S.C. 716(a)), to transfer any commissioned officer with his consent from his uniformed service to, and appoint him in, the National Oceanic and Atmospheric Administration, provided consent for the transfer is given by the Secretary of Defense, the Secretary of Homeland Security, or the Secretary of Health and Human Services, as applicable, in accordance with joint regulations issued under that statute establishing the policies and procedures for such transfers and appointments.”

B

THE WHITE HOUSE,

May 20, 2004.

[FR Doc. 04-11991

Filed 5-24-04; 10:09 am]

Billing code 3195-01-P